DEPARTMENT OF HEALTH AND HUMAN SERVICES

Administration for Children and Families

Proposed Information Collection Activity; Comment Request

Title: Temporary Assistance for Needy Families Two-Parent Study.

OMB No.: New Collection.

Description: The Administration for Children and Families (ACF) is proposing an information collection activity as part of the Temporary Assistance for Needy Families Two-Parent Study. Through this information collection, ACF seeks to gain an in-depth, systematic understanding of the characteristics of two-parent families participating in or eligible to receive TANF, the variety of services two-parent families receive through TANF, how state policies may help or hinder participation in TANF among two-parent families, and how the beliefs of staff and eligible families help or hinder two-parent families' participation in TANF.

The proposed information collection consists of semi-structured interviews with key State and local staff, community-based organization representatives, and adult members of two-parent TANF or likely eligible families on questions of TANF policies, service delivery, and program context, as well as focus groups with adult members of two-parent TANF or likely eligible families.

Respondents: State- and local-level TANF administrators and staff, representatives from community-based organizations, and adults from two-parent families on or likely eligible for TANF.

Annual Burden Estimates

Information collection will be completed within one year.

Instrument | Total/annual number of respondents | Number of responses per respondent | Average burden hours per response | Annual burden hours
Discussion Guide for use with state TANF directors | 10 | 1 | 1.5 | 15
Discussion Guide for use with local TANF directors | 5 | 1 | 1.5 | 8
Discussion Guide for use with local TANF front-line staff | 15 | 1 | 1 | 15
Discussion Guide for use with community-based organizations | 5 | 1 | 1 | 5
Discussion Guide for use with client focus groups | 112 | 1 | 1.5 | 168
Discussion guide for use with client interviews | 25 | 1 | 1 | 25

Estimated Total Annual Burden Hours: 236.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2014-30470 Filed 12-29-14; 8:45 am]

BILLING CODE 4184-73-P